DEPARTMENT OF COMMERCE

International Trade Administration

[Application No. 00-00002]

Export Trade Certificate of Review

AGENCY: International Trade Administration, Department of Commerce.

ACTION: Notice of Issuance of an Export Trade Certificate of Review.

SUMMARY: The Department of Commerce issued an Export Trade Certificate of Review to Consol Energy, Inc. (“CEI”) on June 30, 2000. This notice summarizes the conduct for which certification has been granted.

FOR FURTHER INFORMATION CONTACT: Morton Schnabel, Director, Office of Export Trading Company Affairs, International Trade Administration, 202-482-5131. This is not a toll-free number.

SUPPLEMENTARY INFORMATION: Title III of the Export Trading Company Act of 1982 (15 U.S.C. 4001-21) authorizes the Secretary of Commerce to issue Export Trade Certificates of Review. The regulations implementing Title III are found at 15 CFR Part 325 (l997). The Office of Export Trading Company Affairs (“OETCA”) is issuing this notice pursuant to 15 CFR 325.6(b), which requires the Department of Commerce to publish a summary of a Certificate in the Federal Register. Under Section 305 (a) of the Act and 15 CFR 325.11(a), any person aggrieved by the Secretary's determination may, within 30 days of the date of this notice, bring an action in any appropriate district court of the United States to set aside the determination on the ground that the determination is erroneous.

Description of Certified Conduct

Export Trade

1. Product

Bituminous Coal.

Export Markets

The Export Markets include all parts of the world except the United States (the fifty states of the United States, the District of Columbia, the Commonwealth of Puerto Rico, the Virgin Islands, American Samoa, Guam, the Commonwealth of the Northern Mariana Islands, and the Trust Territory of the Pacific Islands).

Export Trade Activities and Methods of Operation

CEI and its Member may engage in the following activities with respect to Export Markets:

1. Gather and share market intelligence about CEI's and Member's mutual international competition and the purchasing decisions made by foreign buyers in the Export Markets;

2. Allocate export market opportunities between CEI and Member. As sales opportunities arise in foreign countries, CEI and Member may jointly determine which one of them will bid for the business. CEI and Member will not compete against each other with respect to export market opportunities assigned to the other;

3. Jointly determine the price at which the Product will be sold for each such foreign business opportunity;

4. Predetermine which of CEI's or Member's coal production sources would be used for each foreign business opportunity;

5. Solicit non-Member Suppliers of bituminous coal as necessary to meet the quantities and/or specifications required by a particular foreign business opportunity;

6. Jointly develop logistical arrangements for the export of bituminous coal to predetermined markets, including jointly arranging shipping schedules and negotiating rates with

Definitions

1. “Member” (within the meaning of Section 325.2(1) of the Regulations) means AMCI Export Corporation.

2. “Non-Member Supplier” means a person, not a Member of the Certificate, who produces, provides, or sells bituminous coal.

Terms and Conditions of Certificate

1. In engaging in Export Trade Activities and Methods of Operation, neither CONSOL Energy Inc. nor its Member shall intentionally disclose, directly or indirectly, to each other (including parent companies, subsidiaries, or other entities related to CONSOL Energy Inc. or the Member) or to any non-Member Suppliers any information regarding CONSOL Energy Inc.'s or Member's costs, production, inventories, domestic prices, domestic sales, capacity to produce Products for domestic sale, domestic orders, terms of domestic marketing or sale, or U.S. business plans, strategies, or methods, unless such information is already generally available to the trade or public.

2. CONSOL Energy Inc. and its Member shall determine independently the quantities of Product each will offer to export. Neither may require the other to export any minimum quantity of Product.

3. Any agreements, discussions, or exchanges of information under this Certificate relating to quantities of Products available for Export Markets, product specifications or standards, export prices, product quality or other terms and conditions of export sales (other than export financing) shall be in connection only with actual or potential bona fide export transactions or opportunities and shall include only CONSOL Energy, Inc. and the Member.

4. Participation by CONSOL Energy, Inc. and the Member in any Export Trade Activity or Method of Operation under this Certificate shall be entirely voluntary, subject to the honoring of contractual commitments for sales of Products in specific export transactions.

5. CONSOL Energy Inc. and the Member will comply with requests made by the Secretary of Commerce on behalf of the Secretary of Commerce or the Attorney General for information or documents relevant to conduct under the Certificate. The Secretary of Commerce will request such information or documents when either the Attorney General or the Secretary of Commerce believes that the information or documents are required to determine that the Export Trade, Export Trade Activities, and Methods of Operation of a person protected by this Certificate of Review continue to comply with the standards of section 303 (a) of the Act.

A copy of this certificate will be kept in the International Trade Administration's Freedom of Information Records Inspection Facility Room 4102, U.S. Department of Commerce, l4th Street and Constitution Avenue, NW., Washington, DC 20230.

Dated: July 6, 2000.
Morton Schnabel,
Director, Office of Export Trading Company Affairs.

[FR Doc. 00-17910 Filed 7-13-00; 8:45 am]

BILLING CODE 3510-DR-P